DEPARTMENT OF COMMERCE

International Trade Administration

[A-533-808]

Stainless Steel Wire Rod India: Extension of Time Limit for the Final Results of the Antidumping Duty Administrative Review

AGENCY: Import Administration, International Trade Administration, Department of Commerce.

ACTION: Notice of extension of time limit for the final results of antidumping duty administrative review.

SUMMARY: The Department of Commerce (“the Department”) is extending the time limit for the final results of the review of stainless steel wire rod from India. This review covers the period December 1, 1999 through November 30, 2000.

EFFECTIVE DATE: May 20, 2002.

FOR FURTHER INFORMATION CONTACT: Catherine Bertrand at (202) 482-3207; Office of AD/CVD Enforcement, Group III, Office 9, Import Administration, International Trade Administration, U.S. Department of Commerce, 14th Street and Constitution Avenue, NW, Washington, D.C. 20230.

SUPPLEMENTARY INFORMATION:

The Applicable Statute

Unless otherwise indicated, all citations to the Tariff Act of 1930, as amended (“Act”), are references to the provisions effective January 1, 1995, the effective date of the amendments made to the Act by the Uruguay Round Agreements Act (“URAA”). In addition, unless otherwise indicated, all citations to the Department's regulations are to the regulations codified at 19 C.F.R. Part 351 (2000).

Background

On January 8, 2002, the Department of Commerce (“the Department”) published the preliminary results of review of its administrative review of the antidumping duty order on stainless steel wire rod from India. See Stainless Steel Wire Rod From India; Preliminary Results of Antidumping Duty Administrative Review, 67 FR 865 (January 8, 2002) (“Preliminary Results”). The final results of this administrative review are currently due no later than May 8, 2002.

Extension of Time Limit for Preliminary Results

Due to the complexity of issues present in this administrative review, such as complicated cost accounting issues, the Department has determined that it is not practicable to complete this review within the original time period provided in section 751(a)(3)(A) of the Act and section 351.213(h)(2) of the Department's regulations. Therefore, we are extending the due date for the final results by 30 days, until no later than June 7, 2002.

Dated: May 8, 2002
Joseph A. Spetrini,
Deputy Assistant Secretary for Import Administration, Group III.

[FR Doc. 02-12574 Filed 5-17-02; 8:45 am]

BILLING CODE 3510-DS-S